DEPARTMENT OF HEALTH AND HUMAN SERVICES

National Institutes of Health

National Institute on Alcohol Abuse and Alcoholism; Notice of Meeting

Pursuant to section 10(d) of the Federal Advisory Committee Act, as amended (5 U.S.C. App.), notice is hereby given of a meeting of the Board of Scientific Counselors, NIAAA.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute on Alcohol Abuse and Alcoholism, including consideration of personnel qualifications and performance, and the competence of individual investigators, the disclosure of which would constitute a clearly unwarranted invasion of personal privacy.

Name of Committee: Board of Scientific Counselors, NIAAA.

Date: September 23-24, 2009.

Open: September 23, 2009, 8:15 a.m. to 8:30 a.m.

Agenda: Program reports and presentations.

Place: National Institutes of Health, 5635 Fishers Lane, Bethesda, MD 20892.

Closed: September 23, 2009, 8:30 a.m. to 6 p.m.

Agenda: To review and evaluate the Laboratory of Membrane Biochemistry and Biophysics (LMBB).

Place: National Institutes of Health, 5635 Fishers Lane, Bethesda, MD 20892.

Closed: September 24, 2009, 8:30 a.m. to 4:30 p.m.

Agenda: To review and evaluate the Laboratory of Molecular Signaling and Metabolic Control.

Place: National Institutes of Health, 5635 Fishers Lane, Bethesda, MD 20892.

Contact Person: Trish Scullion, Chief of Administrative Branch, National Institute of Health, National Institute on Alcohol Abuse, and Alcoholism, 5635 Fishers Lane, Room 3061, Rockville, MD 20852. 301-443-6076.

(Catalogue of Federal Domestic Assistance Program Nos. 93.271, Alcohol Research Career Development Awards for Scientists and Clinicians; 93.272, Alcohol National Research Service Awards for Research Training; 93.273, Alcohol Research Programs; 93.891, Alcohol Research Center Grants; 93.701, ARRA Related Biomedical Research and Research Support Awards, National Institutes of Health, HHS)

Dated: August 6, 2009.
Jennifer Spaeth,
Director, Office of Federal Advisory Committee Policy.

[FR Doc. E9-19425 Filed 8-12-09; 8:45 am]

BILLING CODE 4140-01-M